DEPARTMENT OF HEALTH AND HUMAN SERVICES

Centers for Disease Control and Prevention

[30Day-06-0234]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Ambulatory Medical Care Survey (NAMCS) 2007-2008 (OMB No. 0920-0234)—Revision—National Center for Health Statistics (NCHS), Centers for Disease Control and Prevention (CDC).

Background and Brief Description

The National Ambulatory Medical Care Survey (NAMCS) was conducted annually from 1973 to 1981, again in 1985, and resumed as an annual survey in 1989. The purpose of NAMCS is to meet the needs and demands for statistical information about the provision of ambulatory medical care services in the United States. Ambulatory services are rendered in a wide variety of settings, including physicians' offices and hospital outpatient and emergency departments. The NAMCS target population consists of all office visits made by ambulatory patients to non-Federal office-based physicians (excluding those in the specialties of anesthesiology, radiology, and pathology) who are engaged in direct patient care. For the first time in 2006, physicians and mid-level providers (i.e., nurse practitioners, physician assistants, and nurse midwives) practicing in community health centers (CHCs) were added to the NAMCS sample, and these data will continue to be collected in 2007-2008. To complement NAMCS data, NCHS initiated the National Hospital Ambulatory Medical Care Survey (NHAMCS, OMB No. 0920-0278) to provide data concerning patient visits to hospital outpatient and emergency departments.

The NAMCS provides a range of baseline data on the characteristics of the users and providers of ambulatory medical care. Data collected include the patients' demographic characteristics, reason(s) for visit, physicians' diagnosis(es), diagnostic services, medications, and visit disposition. In addition, a Cervical Cancer Screening Supplement (CCSS) will continue to be a key focus in 2007-2008. The CCSS collects information on cervical cancer screening practices performed by selected physician specialties. It will allow the CDC/National Center for Chronic Disease Prevention and Health Promotion to evaluate cervical cancer screening methods and the use of human papillomavirus tests.

Users of NAMCS data include, but are not limited to, congressional offices, Federal agencies, state and local governments, schools of public health, colleges and universities, private industry, nonprofit foundations, professional associations, clinicians, researchers, administrators, and health planners. There are no costs to the respondents other than their time. The total estimated annualized burden hours are 8,645.

Estimated Annualized Burden Hours
Respondents | Number of respondents | Number of responses/respondent | Avg. burden per response (in hrs)
Office-based physicians (eligible):
Physician Induction Interview | 2,662 | 1 | 35/60
Patient Record form | 2,263 | 30 | 5/60
Pulling and re-filing Patient Record form | 399 | 30 | 1/60
CCSS | 712 | 1 | 15/60
Office-based physicians (ineligible):
Patient Induction Interview | 888 | 1 | 5/60
Community Health Center Directors:
Community Health Center Induction Interview | 104 | 1 | 20/60
CHC Providers:
Physician Induction Interview | 312 | 1 | 35/60
Patient Record Form | 265 | 30 | 5/60
Pulling and re-filing Patient Record form | 47 | 30 | 1/60
CCSS | 312 | 1 | 15/60

Dated: July 11, 2006.
Joan F. Karr,
Acting Reports Clearance Officer, Centers for Disease Control and Prevention.

[FR Doc. E6-11521 Filed 7-19-06; 8:45 am]

BILLING CODE 4163-18-P